DEPARTMENT OF HEALTH AND HUMAN SERVICES

National Institutes of Health

National Toxicology Program Board of Scientific Counselors; Announcement of Meeting; Request for Comments; Amended Notice

SUMMARY: This notice amends Federal Register notice 80 FR 61831, published October 14, 2015, announcing the National Toxicology Program (NTP) Board of Scientific Counselors (BSC) meeting and requesting comments. The deadline for written public comment submission has been changed to January 8, 2016. Persons submitting comments for the BSC meeting are encouraged to send them by November 30, 2015, to facilitate review by the BSC and NTP staff prior to the meeting. NTP is extending the written public comment period beyond the BSC meeting to provide additional opportunity for the public to comment on two draft concepts, Mountaintop Removal Mining: Impacts on Health in the Surrounding Community and Systematic Review on Fluoride and Developmental Toxicity. All other information in the original notice has not changed. Information about the meeting and registration is available at http://ntp.niehs.nih.gov/go/165.

DATES: Meeting: December 1-2, 2015; it begins at 8:00 a.m. Eastern Standard Time (EST) on December 1 and at 10:00 a.m. on December 2 and continues each day until adjournment. Written Public Comment Submission: Deadline is January 8, 2016.

Dated: November 17, 2015.
John R. Bucher,
Associate Director, National Toxicology Program.

[FR Doc. 2015-29734 Filed 11-20-15; 8:45 am]

BILLING CODE 4140-01-P